DEPARTMENT OF ENERGY

Federal Energy Regulatory Commission

[Docket No. ER02-2001-008; Docket No. ER06-63-000]

Electric Quarterly Reports; Take Two, LLC; Notice of Revocation of Market-Based Rate Tariffs

October 23, 2008.

On September 18, 2008, the Commission issued an order announcing its intent to revoke the market-based rate authority of two public utilities that had failed to file their required Electric Quarterly Reports.¹ The Commission gave the utilities fifteen days in which to file their overdue Electric Quarterly Reports or face revocation of their market-based rate tariffs.

¹ Electric Quarterly Reports, 124 FERC ¶ 61,242 (2008) (September 18 Order).

In Order No. 2001, the Commission revised its public utility filing requirements and established a requirement for public utilities, including power marketers, to file Electric Quarterly Reports summarizing the contractual terms and conditions in their agreements for all jurisdictional services (including market-based power sales, cost-based power sales, and transmission service) and providing transaction information (including rates) for short-term and long-term power sales during the most recent calendar quarter.²

² Revised Public Utility Filing Requirements, Order No. 2001, 67 FR 31,043, FERC Stats. & Regs. ¶ 31,127 (April 25, 2002), reh'g denied, Order No. 2001-A, 100 FERC ¶ 61,074, reconsideration and clarification denied, Order No. 2001-B, 100 FERC ¶ 61,342, order directing filings, Order No. 2001-C, 101 FERC ¶ 61,314 (2002).

In the September 18 Order, the Commission directed Solaro Energy Marketing Corporation and Take Two, LLC. each to file the required Electric Quarterly Reports within 15 days of the date of issuance of the order or face revocation of their authority to sell power at market-based rates and termination of their electric market-based rate tariffs. ³

³ September 18 Order at Ordering Paragraph A.

The time period for compliance with the September 18 Order has elapsed. One company identified in the September 18 Order (Take Two, LLC) has failed to file its delinquent Electric Quarterly Reports.

The Commission hereby revokes this company's market-based rate authority and terminates the electric market-based rate tariff.

Nathaniel J. Davis, Sr.,
Deputy Secretary.

[FR Doc. E9-23950 Filed 10-2-09; 8:45 am]

BILLING CODE 6717-01-P